DEPARTMENT OF HOMELAND SECURITY

U.S. Customs and Border Protection

19 CFR Part 12

[CBP Dec. 25-09]

RIN 1685-AA33

Imposition of Import Restrictions on Archaeological and Ethnological Material of India

AGENCY: U.S. Customs and Border Protection, Department of Homeland Security.

ACTION: Final rule.

SUMMARY: This document amends the U.S. Customs and Border Protection (CBP) regulations to reflect the imposition of import restrictions on certain archaeological and ethnological material from the Republic of India (India). These restrictions are imposed pursuant to an agreement between the United States and India, entered into under the authority of the Convention on Cultural Property Implementation Act. This document amends the CBP regulations by adding India to the list of countries which have bilateral agreements with the United States imposing cultural property import restrictions and contains the Designated List, describing the archaeological and ethnological material to which the restrictions apply.

DATES: Effective on July 28, 2025.

FOR FURTHER INFORMATION CONTACT: For legal aspects, W. Richmond Beevers, Chief, Cargo Security, Carriers and Restricted Merchandise Branch, Regulations and Rulings, Office of Trade, (202) 325-0084, ot-otrrculturalproperty@cbp.dhs.gov. For operational aspects, Julie L. Stoeber, Chief, 1USG Branch, Trade Policy and Programs, Office of Trade, (202) 945-7064, 1USGBranch@cbp.dhs.gov.

SUPPLEMENTARY INFORMATION:

Background

The Convention on Cultural Property Implementation Act (Pub. L. 97-446, 19 U.S.C. 2601 et seq.) (CPIA), which implements the 1970 United Nations Educational, Scientific and Cultural Organization (UNESCO) Convention on the Means of Prohibiting and Preventing the Illicit Import, Export and Transfer of Ownership of Cultural Property (823 U.N.T.S. 231 (1972)) (Convention), allows for the conclusion of an agreement between the United States and another party to the Convention to impose import restrictions on certain archaeological and ethnological material. Pursuant to the CPIA, the United States entered into a bilateral agreement with the Republic of India (India) to impose import restrictions on certain archaeological and ethnological material of India. This rule announces that the United States is now imposing import restrictions on certain archaeological and ethnological material of India through July 26, 2029. This period may be extended for additional periods, each extension not to exceed five years, if it is determined that the factors justifying the initial agreement still pertain and no cause for suspension of the agreement exists (19 U.S.C. 2602(e); § 12.104g(a) of title 19 of the Code of Federal Regulations (19 CFR 12.104g(a))).

Determinations

Under 19 U.S.C. 2602(a)(1), the United States must make certain determinations before entering into an agreement to impose import restrictions under 19 U.S.C. 2602(a)(2). On December 13, 2023, the Assistant Secretary for Educational and Cultural Affairs, United States Department of State, after consultation with and recommendation by the Cultural Property Advisory Committee, made the determinations required under the statute with respect to certain archaeological and ethnological material originating in India that is described in the Designated List set forth below in this document.

These determinations include the following: (1) that the cultural patrimony of India is in jeopardy from the pillage of archaeological material representing India's cultural heritage dating from approximately 1.7 million years ago to 1770 C.E., and ethnological material dating from approximately the 2nd century B.C.E. to 1947 C.E. (19 U.S.C. 2602(a)(1)(A)); (2) that the government of India has taken measures consistent with the Convention to protect its cultural patrimony (19 U.S.C. 2602(a)(1)(B)); (3) that import restrictions imposed by the United States would be of substantial benefit in deterring a serious situation of pillage and remedies less drastic are not available (19 U.S.C. 2602(a)(1)(C)); and (4) that the application of import restrictions as set forth in this final rule is consistent with the general interests of the international community in the interchange of cultural property among nations for scientific, cultural, and educational purposes (19 U.S.C. 2602(a)(1)(D)). The Assistant Secretary also found that the material described in the determinations meets the statutory definition of “archaeological or ethnological material of the State Party” (19 U.S.C. 2601(2)).

The Agreement

On July 26, 2024, the Governments of the United States and India signed a bilateral agreement, “Agreement between the Government of the United States of America and the Government of the Republic of India Concerning the Imposition of Import Restrictions on Categories of Archaeological and Ethnological Material of India” (Agreement), pursuant to the provisions of 19 U.S.C. 2602(a)(2). The Agreement entered into force upon signature and enables the promulgation of import restrictions on certain categories of archaeological material ranging in date from approximately 1.7 million years ago to 1770 C.E., as well as certain categories of ethnological material dating from approximately the 2nd century B.C.E. to 1947 C.E. A list of the categories of archaeological and ethnological material subject to the import restrictions is set forth later in this document.

Restrictions and Amendment to the Regulations

In accordance with the Agreement, importation of material designated below is subject to the restrictions of 19 U.S.C. 2606 and 19 CFR 12.104g(a) and will be restricted from entry into the United States unless the conditions set forth in 19 U.S.C. 2606 and 19 CFR 12.104c are met. CBP is amending 19 CFR 12.104g(a) to indicate that these import restrictions have been imposed.

Import restrictions listed at 19 CFR 12.104g(a) are effective for no more than five years beginning on the date on which an agreement enters into force with respect to the United States. This period may be extended for additional periods of not more than five years if it is determined that the factors which justified the agreement still pertain and no cause for suspension of the agreement exists. Therefore, the import restrictions will expire on July 26, 2029, unless extended.

Designated List of Archaeological and Ethnological Material of India

The Agreement between the United States and India includes, but is not limited to, the categories of objects described in the Designated List set forth below.

The Designated List includes archaeological and ethnological material from India. The archaeological material in the Designated List ranges in date from 1.7 million years ago through 1770 C.E. The ethnological material in the Designated List includes civic, religious, and royal architectural material; religious material and ceremonial items; and manuscripts, portions of manuscripts, and materials used to bind manuscripts dating from the 2nd century B.C.E. to 1947 C.E. The list set forth below is representative only. Any dates and dimensions are approximate.

Categories of Archaeological and Ethnological Material

I. Archaeological Material

A. Stone

B. Ceramics, Faience, and Fired Clay

C. Metal

D. Plaster, Stucco, and Unfired Clay

E. Paintings

F. Ivory and Bone

G. Glass

H. Paper, Leather, Birch Bark, and Palm-Leaf

I. Textiles

J. Wood, Shell, and other Organic Material

K. Human Remains

II. Ethnological Material

A. Architectural Elements

B. Religious and Ceremonial Items

C. Manuscripts

Approximate simplified chronology of well-known periods:

Lower Paleolithic Era to Mesolithic Era: c. 1.7 million years ago-7000 B.C.E.

Neolithic Era: c. 7000-4500 B.C.E.

Chalcolithic Era (including, but not limited to, Indus Valley Civilization, also called Harappan Civilization; Southern Neolithic Era): c. 4500-1500 B.C.E.

Early Historic and Historic Periods (including, but not limited to, Southern Neolithic Era, Iron Age, and Southern Early Historic Period; Vedic Period, including the advent of Buddhism and Jainism; Mauryan, Shunga-Kushan, and Gupta Empires; Indo-Greek Period; Chera, Chola, and Pandya Dynasties): c. 1500 B.C.E.-550 C.E.

Medieval Period (including, but not limited to, Gurjara-Pratihara and Pala Dynasties; Chola, Rastrakuta, and Pallava Dynasties; Delhi Sultanate): 550-1526 C.E.

Mughal Empire or Early Modern Period (including, but not limited to, Nayaka kingdoms and Maratha Empire): 1526-1858 C.E.

Colonial Period: 1858-1947 C.E.

I. Archaeological Material

A. Stone

(1) Architectural Elements—Primarily in sandstone, limestone, marble, granite, basalt, slate, schist, quartzite, and khondalite, but includes other types of stone. Category includes, but is not limited to: arches; balustrades; beams; benches; brackets; bricks and blocks from walls, ceilings, gates, and floors; buttresses; columns, including capitals and bases; cornices; dentils; disks, including amalakas and chattras; domes; door frames and portals; false gables; finials and spires; friezes; fountains and fountainheads; gates; lintels; merlons; mihrabs; mosaics; niches; panels; pavilions, including semi-open domed pavilions (chatris/chhatris); pilasters; pillars, including capitals and bases; plinths; railings; reliefs; screens and lattices (jalis); turrets; tympana; vaults; and windows. Elements may be plain, carved in relief, incised, inlaid, or inscribed in various languages and scripts; may be polished, painted, and/or gilded. Architectural elements may include relief sculptures, mosaics, and inlays that were part of a building, such as friezes, panels, or figures in the round. Includes architectural elements of Turkic, Persian, Arab, Hellenistic (Greek), Saracenic, European (British, Dutch, and Portuguese), and East Asian influence. May include depictions of floral, vegetal, animal, geometric, human, and mythological motifs and scenes from Hindu, Muslim, Buddhist, Jain, Sikh, Christian, Jewish, and Zoroastrian religious traditions. Approximate Date: 4500 B.C.E.-1770 C.E.

(2) Non-Architectural Monuments—Primarily in sandstone, limestone, marble, granite, basalt, schist, steatite, but includes other types of stone. Types include, but are not limited to: altars; bases; basins; cenotaphs; funerary headstones and monuments; fountains; free-standing pillars; libation platforms; linga; memorial stones; monoliths, including rooted sculptures; niches; plaques; portable shrines; ring stones; rock edicts; roundels; sarcophagi; slabs; stands; stelae; stelae bases; virikals (hero stones and sati stones); and yoni. Monuments may be plain, carved in relief, incised, inlaid, or inscribed in various languages and scripts; may be polished, painted, and/or gilded. Decorative elements may include geometric, floral, and/or vegetal motifs, as well as animal, mythological, and/or human figures in various poses from secular, as well as Megalithic, Hindu, Muslim, Buddhist, Jain, Sikh, Christian, Jewish, and Zoroastrian religious traditions. Approximate Date: 4500 B.C.E.-1770 C.E.

(3) Large Statuary—Primarily in sandstone, limestone, marble, granite, basalt, steatite, and schist, but includes other types of stone. Statuary includes seated, standing, reclining, amorous, or dancing human, animal, and/or mythological figures, as well as figures from Hindu, Buddhist, Jain, Sikh, Christian, Jewish, and Zoroastrian religious traditions. Large statuary may be polished, painted, and/or gilded, and may bear inscriptions in various languages and scripts. Approximate Date: 4500 B.C.E.-1770 C.E. Some well-known types include:

a. Early Historic and Historic Periods sculpture includes figures from Buddhist, Jain, and Hindu religious traditions, as well as influences from the Gandharan style. Sculptural styles can include robust, sensuous figures with intricate ornamentation, as well as stylized, angular figures. May depict scenes from Buddhist religious traditions, such as the Buddha, bodhisattvas, devotees, and vegetation. Other sculptural traditions include figures with long faces and ears and conical headdresses. Gupta Empire sculpture is notable for graceful, serene figures with broader shoulders and leaner builds depicting images and scenes from Hindu, Jain, and Buddhist religious traditions. Approximate Date: 1500 B.C.E.-550 C.E.

b. Medieval Period large sculpture reflects a wide spectrum of regional styles. Sculptures are highly elaborate, occasionally rigid in high relief. May also depict mythological, mundane, and/or spiritual scenes. Approximate Date: 550-1526 C.E.

(4) Small Statuary—Primarily in basalt, granite, jade, limestone, marble, sandstone, steatite, schist, but includes other types of stone. Animals, human figures, mythological forms, and architectural models may be stylized or naturalistic. Small statuary includes depictions from secular as well as Hindu, Buddhist, Jain, Sikh, Christian, Jewish, and Zoroastrian religious traditions. Small statuary may be polished, painted, inlaid, and/or gilded, and may bear inscriptions in various languages and scripts. Small statuary styles and design reflect some characteristics of large statuary. Approximate Date: 4500 B.C.E.-1770 C.E.

(5) Vessels and Containers—Primarily in alabaster, jade, marble, sandstone, steatite, but includes other types of stone. Vessel types may be conventional shapes such as: bowls; boxes; canisters; cups; cylindrical vessels; goblets; flasks; jars; jugs; lamps; platters; stands; trays; votive vessels; in addition to specialized shapes. May also include: caskets; cosmetic containers or palettes; inkpots; pen boxes; spittoons; reliquaries and their contents; and incense burners. Includes vessel lids. Some reliquaries may take the shape of a Buddhist stupa. Surfaces may be plain, painted, polished, and/or incised or carved in relief with geometric, floral, or vegetal decoration, elaborate figural scenes, and/or inscriptions in various languages and scripts. Vessels may be inlaid with stones or gilded. Approximate Date: 7000 B.C.E.-1770 C.E.

(6) Tools, Instruments, and Weights—Includes ground stone and flaked stone tools. Approximate Date: 1.7 million years ago-1770 C.E.

a. Ground stone tools, instruments, and weights are mainly made from chert, granite, sandstone, marble, quartz, limestone, but other types of stone are included. Types include, but are not limited to, adzes, anvils, axes, balls, celts, cleavers, grinding stones, hammerstones, maces, mills, molds, mortars, palettes, pestles, querns, rods, rubbers, scepters, scrapers, whetstones, and others. Also included are counters, dice, finials, fly whisk handles, game pieces, hilts, mirror frames and handles, spindle whorls, trays, and weights. Stone tools used to polish, shape, or sharpen other tools are included. Stone weights are found in various shapes, such as cubes, rectangular prisms, rings, spheres, and truncated spheres, and may be polished and/or decorated with incisions or relief carving and/or inscribed in various languages and scripts. Some handles, hilts, and others may be inlaid with precious or semi-precious stones, glass, and/or precious metals, and might be carved in zoomorphic, vegetal, floral, and/or mythological shapes.

b. Flaked stone tools are primarily made of chalcedony, chert or other cryptocrystalline silicates, limestone, flint, jasper, obsidian, or quartzite, but other types of stone are included. Types include axes, bifaces, blades, burins, borers, choppers, cleavers, cores, hammers, knives, microliths, points, projectiles, scrapers, sickles, unifaces, and others. Stone tools used to create flaked stone tools are included.

(7) Beads and Jewelry—Primarily in alabaster, agate, amazonite, amethyst, carnelian, chalcedony, coral, cryptocrystalline silicates, emerald, garnet, jade, jasper, lapis lazuli, onyx, quartz, rock crystal, ruby, steatite, and turquoise, but also includes other types of stone. Beads may be carved, cut, drilled, ground, etched, fired, glazed, painted and/or polished. Beads may be in animal, biconical, conical, cylindrical, disc, dumbbell, eye, faceted, scaraboid, spherical, teardrop, and other shapes. May bear geometric designs, images, and/or inscriptions in various languages and scripts. Jewelry includes amulets, anklets, bracelets, bangles, pectorals, pendants, rings, and other types. Approximate Date: 7000 B.C.E.-1770 C.E.

(8) Stamps, Seals, and Gems—Primarily in agate, amethyst, carnelian, chalcedony, hematite, jasper, rock crystal, sapphire, ruby, cat's eye, garnet, diamond, emerald, hessonite, moonstone, aquamarine, tourmaline, turquoise, steatite, but also includes other types of stone. Stamps, seals, and gems may have engravings that include animals, human figures, geometric, floral, or vegetal designs, and/or inscriptions in various languages and scripts. Includes cameos and intaglios. Particularly prevalent in the Chalcolithic Indus Valley Era. Well-known styles are from the Neolithic Era, Chalcolithic Era, Historic Period, Medieval Period, and Mughal Empire. Approximate Date: 4500 B.C.E.-1770 C.E.

a. Chalcolithic Era seals and stamps are primarily in steatite (usually fired or glazed) but also include other types of stone. May be square or rectangular, but may also be circular, cylindrical, oval, or triangular, and may have a pierced knob handle. Incised designs often feature inscriptions in the Indic script, either alone or together with animals, human, divine, and/or mythological figures, plants, and symbols. Designs may also be geometric. Approximate Date: 4500-1500 B.C.E.

b. Early Historic and Historic Periods seals and stamps are usually oval, rectangular, button-shaped, teardrop, or hemispherical. Stamps and seals may be incised, drilled, cut, or relief-carved with animals, human, divine, and/or mythological figures, plants, and symbols. May be perforated for suspension or set into a ring. May be inscribed in various languages and scripts. Approximate Date: 1500 B.C.E.-550 C.E.

c. Medieval Period seals and stamps are usually circular, oval, rectangular, square, or teardrop. Stamps and seals may be incised, drilled, cut, or relief-carved with animals, human, divine, and/or mythological figures, plants, and symbols. May be perforated for suspension or set into a ring. May be inscribed in various languages and scripts. Approximate Date: 550-1526 C.E.

d. Mughal Empire or Early Modern Period seals and stamps are usually rectangular, square, teardrop, polygonal, or circular. Stamps and seals may be drilled, cut, relief-carved, or and/or inscribed primarily with script or calligraphy. May be perforated for suspension or set into a ring. Approximate Date: 1526-1770 C.E.

B. Ceramic, Faience, and Fired Clay

(1) Statuary—Includes small and large-scale statuary in ceramic, faience, and terracotta. Includes, but is not limited to: auspicious emblems; cart frames or wheels; figurines; masks, for decoration or performance art; model boats; model carts; model houses; model stupas; plaques; rattles; reliefs; and roundels. Includes bases, plinths, or stands. May be associated with religious or spiritual activity, decoration, commemoration, games, or toys. May depict scenes of animals, deities, humans, hybrid animals/humans or other mythological figures, monuments, mandalas, or vegetation. May be painted or have traces of paint or pigment, as well as be stamped, incised, or inscribed in various languages and scripts. Forms may be stylized or naturalized. Well-known styles date to the Chalcolithic Era, Historic Period, Medieval Period, and Mughal Empire. Approximate Date: 4500 B.C.E.-1770 C.E.

(2) Architectural Elements—Primarily in terracotta. Includes, but is not limited to: arches; brackets; bricks; columns, including capitals and bases; eaves; floors; friezes; niches; panels; pipes; reliefs; tiles; and other elements used as functional or decorative elements in buildings or flooring. Bricks may be cut, carved, or molded to form decorative patterns on building exteriors. Panels and tiles may be painted, plastered, stuccoed, or have traces of paint or plaster. Tiles may bear carved, incised, impressed, or molded decoration in the form of animals, humans, geometric, floral, vegetal, and/or mythological motifs. Tiles may be square, rounded, polygonal, or specifically shaped. They may have been molded, incised, and/or painted with animal, geometric, floral, vegetal, and/or mythological motifs, arabesque (intertwining) motifs, and/or calligraphic writing in various scripts and languages before glazing. If glazed, glaze may be clear, monochrome, or polychrome. Approximate Date: 4500 B.C.E.-1770 C.E.

(3) Vessels and Containers—Includes utilitarian vessels, fine tableware, lamps, special-purpose vessels, and other ceramic objects of everyday use.

a. Mesolithic Era includes handmade plain and cord-impressed vessels and containers and/or fragments. Approximate Date: 10,000-7000 B.C.E.

b. Neolithic Era includes handmade and slow-wheel-thrown coarse earthenware vessels and/or fragments. Vessel types include bowls, jars, pots, and other forms. May be grey, buff, brown, pink, red, or black. May include decor and finishes such as red-, black-, or cream-slipped surfaces, paint or other pigments; herringbone, cross-hatched, and checkerboard patterns; incision, burnishing, impressions; among others. Approximate Date: 7000-4500 B.C.E.

c. Chalcolithic Era includes handmade and wheel-thrown coarse and fine earthenware vessels and/or fragments. Vessel types include bowls, canisters, cooking pots, goblets, jars, jugs, lids, plates, pedestalled stands, perforated strainers, flat dishes, storage vessels, urns, and other forms. Surface can be red, buff, gray, brown, cream, or black. May include decor and finishes such as red-, black-, or cream-slipped surfaces, paint or other pigments; incision, burnishing, impressions; among others. Designs include more ornate animal, geometric, floral, and/or vegetal motifs. May be incised with characters in the Indus script. Approximate Date: 4500-1500 B.C.E.

d. Early Historic and Historic Periods include handmade, molded, or wheel-made earthenware vessels and/or fragments. Vessel types include: conventional shapes such as basins; beakers; bottles; bowls; cooking pots; cups; jars; jugs and juglets; lids; pitchers; plates; storage vessels; saucers; thalis (a large plate with an upturned rim, c. 30 cm in diameter); trays; tubs; urns; and vases, as well as other forms such as incense burners; drinking horns; lamps; stands; and specialty pieces. Vessel forms may have pedestal bases, handles, and/or spouts. Some vessels may have been formed into elaborate shapes using molds. Lids may include spires. Surface treatments may include slip, burnishing, polishing, incising, impressing (including grooving, rouletting, and stamping), appliqué, painting, and/or glazing. Includes Iron Age black-, red-, and black and red-slip ware. Stamp impressions include simple geometric motifs, leaves, lotuses, rosettes, and/or elaborate scenes combining animal, human, geometric, floral, and/or vegetal motifs. Molded animal heads, human figures, or rosettes in clay may be applied to the exterior surface of a vessel or attached as a handle. Painted designs include geometric, floral, and vegetal motifs, as well as reliefs and narrative panels of humans, animals, and plants. May be inscribed or painted in various languages and scripts. Approximate Date: 1500 B.C.E.-550 C.E.

e. Medieval Period includes handmade, molded, or wheel-made earthenware vessels and/or fragments. Vessel types include: conventional shapes such as basins; beakers; bottles; bowls; cooking pots; cups; jars; jugs and juglets; lids; pitchers; plates; storage vessels; saucers; thalis; trays; tubs; urns; and vases, as well as other forms such as incense burners; drinking horns; lamps; stands; and specialty pieces. Painted designs include animal, geometric, floral, human, religious, and/or vegetal motifs, as well as reliefs and narrative panels of humans, animals, and plants. May be inscribed or painted in various languages and scripts. Approximate Date: 550-1526 C.E.

f. Mughal Empire or Early Modern Period includes handmade, molded, and wheel-made earthenware vessels, as well as porcelain and sgraffiato, and/or fragments. Vessel types include conventional shapes such as bowls, coasters, cooking pots, cups, ewers, flasks, jars, jugs, lamps, lids, pans, platters, trays, water vessels (lota), and other types such as hookah pots, incense burners, ashtrays, vessels with a pedestalled foot, kneading troughs, model stupas, pipes, and vessels in the shape of animals. Painted decoration includes animal, geometric, floral, and vegetal motifs, as well as inscriptions in various languages and scripts, variously applied on a slipped surface, under a colorless glaze, or over a colored glaze. Glazes may be colorless, monochrome, or polychrome. Common colors include green, yellow, blue, black, brown, indigo, turquoise, and white. Glazed pottery based on Persian models with Indian designs, white background with blue, green, red, and yellow floral, vegetal, and geometric motifs is a characteristic type. Approximate Date: 1526-1770 C.E.

(4) Beads, Jewelry, and Ornaments—Includes, but is not limited to, bangles, beads, bracelets, buttons, ear spools, earrings, hairpieces, inlays, masks and related decorative or theatrical costume elements, rings, and others made of faience and terracotta. Beads include barrel, biconical, cylindrical, segmented, and other shapes. Faience may be colored with blue, blue-green, red, and white glaze. Approximate Date: 4500 B.C.E.-1770 C.E.

(5) Tools and Instruments—Includes, but is not limited to, terracotta balls, buttons, coin molds, cones, cubes, dabbers, dice, discs, flutes, kiln setters, loom weights, musical and percussive instruments, net-sinkers, rattles, skin-rubbers, stamps, statuary and vessel molds, spindle whorls, scoops, spoons, stoppers, whistles (may take the shape of animals), and other objects. May be incised or stamped with inscriptions in various languages and scripts. Approximate Date: 7000 B.C.E.-1770 C.E.

(6) Stamps and Seals—Terracotta and faience stamps and seals can be square, rectangular, circular, or oval with geometric, animal, religious, calligraphic, floral, and/or vegetal motifs. May be incised or stamped with inscriptions in various languages and scripts. Includes sealings that result from use of stamps and seals. Approximate Date: 4500 B.C.E.-1770 C.E.

(7) Tablets and Sealings—Terracotta and faience tablets and sealings may be cylindrical, rectangular, or prismatic and molded in relief with images of animals, humans, deities, calligraphic, and other motifs, and/or inscriptions in various languages and scripts. Approximate Date: 4500 B.C.E.-1770 C.E.

C. Metal

Includes copper, gold, silver, iron, lead, tin, zinc, and alloys such as bronze, electrum, brass, pewter, and steel. Approximate Date: 4500 B.C.E.-1770 C.E.

(1) Containers and Vessels—Vessel types include: conventional shapes such as basins; bottles; bowls; boxes; canisters; cauldrons; chalices; cups; dishes; ewers; flasks; jars; jugs; lamps; pans; plates (including copper plate inscriptions); platters; pots; rosewater sprinklers; saucepans; stands; utensils; and vases, but also include forms such as ash trays; hookah pots; incense burners; padlocks; portable lidded boxes used to carry human remains; reliquaries and their contents; and spittoons. Some reliquaries may take the form of a Buddhist stupa. One end of some drinking vessels may take the form of an animal or mythical creature. They may include lids, spouts, and handles of vessels. Metal containers may have been decorated by chasing (embossing), engraving, gilding, inlaying, punching, and/or repoussé (relief hammering). Designs include, but are not limited to: inscriptions in various languages and scripts; arabesque (intertwining) motifs; geometric, filigree, floral, vegetal, and animal motifs; and portrait busts or scenes of human figures, such as ceremonial, banquet, or hunting scenes. Some containers and vessels, such as reliquaries, may be inlaid with precious or semi-precious stones, as well as precious metals such as gold and silver. Approximate Date: 4500 B.C.E.-1770 C.E.

(2) Jewelry and Personal Adornments—Types include, but are not limited to: amulets; amulet holders; armbands; bangles; beads; bracelets; belts; bracteates; brooches; buckles; buttons; chains; charms; clasps; collars; crowns; earrings; ear spools; discs; hair and turban ornaments; hairpins; headdress or hat ornaments; lockets; necklaces; pectoral ornaments; pendants; pins; finger, toe, and nose rings, including ring-seals; rosettes; and staffs. Includes metal ornaments, appliqués, clasps, and ornaments once attached to textiles or leather objects. Includes also metal scrolls inscribed in various languages and scripts. May have been decorated by chasing (embossing), cloisonné, enameling, engraving, filigree, gilding, granulation, inlaying, and/or repoussé (relief hammering). Decoration may include animal, human, religious, geometric, floral, calligraphic, and/or vegetal motifs. May include inlays of ivory, bone, animal teeth, enamel, other metals, precious stones, and/or semi-precious stones. Includes mixed media. Approximate Date: 4500 B.C.E.-1770 C.E.

(3) Tools and Instruments—Types include, but are not limited to: adzes; arrowheads; astrolabes; axes; backscratchers; bells; blades; celts; chisels; drills; fishhooks; goads; hinges; hoes; hooks; keys; knives; measuring rods; mirrors and mirror handles; nails; pickaxes; pins; rakes; rods; saws; scale weights; scythes; shears; shovelheads; sickles; spades; spoons; staffs; tongs; trowels; weights; and tools of craftspeople such as carpenters, masons, and metalsmiths, among others. Includes musical instruments. Approximate Date: 4500 B.C.E.-1770 C.E.

(4) Weapons and Armor—Includes, but is not limited to: body armor, such as chain mail; helmets; horse, camel, and elephant armor, bits, bridle, and ornamental elements; plate armor; scale armor; shin guards; and shields and shield bosses. Also includes: launching weapons (arrowheads, spearheads, javelin heads, and tridents); hand-to-hand combat weapons (axes, swords, including sabers and scimitars, daggers, including khanjars and katars, and maces); firearms, cannons, muskets, and ammunition; sheaths; and priming horns. Some weapons may be highly decorative and incorporate inlays of other types of metal, precious stones, or semi-precious stones in the sheaths and hilts. Some weapons, hilts, and sheaths may be engraved or embossed with inscriptions in various languages and scripts, arabesque (intertwining), geometric, floral, calligraphic, religious, and/or vegetal motifs, and/or human or animal scenes, such as hunting scenes. May also be gilded, polished, burnished, painted, and/or covered in cloth or other materials. Approximate Date: 4500 B.C.E.-1770 C.E.

(5) Coins—Ancient coins include gold, silver, copper, lead, and copper alloy coins in a variety of sizes and denominations. Includes gold and silver ingots and commemorative coins. Coins may be circular, oval, square, or polygonal in shape, may be punch-marked, hammered, cast, molded, and/or gilded. Coins may include designs on one or both sides, including edges. Designs may include portraits, crests, deities, and animal, floral, architectural, geometric, and/or vegetal motifs, and/or may be inscribed in various languages and scripts. Includes depictions of symbols and figures from Buddhist, Jain, Hindu, Christian, Sikh, and Zoroastrian religious traditions, among others. Includes Roman, Persian, Greek or Hellenistic, Gandharan, Central Asian, and other coins found in India. Includes coins that were reused or converted into decorative objects or objects of personal adornment. Approximate Date: 600 B.C.E.-1770 C.E.

a. Early Historic Period includes punch-marked coins, discs, tokens, among others in gold and silver. May include depictions of animals, geometric, floral, and/or vegetal motifs.

b. Historic Period includes, but is not limited to, Mauryan punch marked coins (karshapana) with various symbols such as suns, crescents, six-arm designs, hills, peacocks, human figures, animals, and others, and inscriptions in Brahmi script; Roman silver and bronze coins; Hellenistic and Gandharan drachms, tetradrachms, and gold staters featuring iconography of Hellenistic deities and human portraiture and inscriptions in Greek and Kharoshti; Kushan dinars, tetradrachms, and copper alloy denominations with iconography from Persian, Zoroastrian, Buddhist, and Hindu traditions; Western Satraps coins with bull-and-hill or elephant-and-hill images; Indo-Scythian coins; Satavahana coins with Prakrit inscriptions and animal, floral, geometric, star, Buddhist shrines or stupas, human, wheel, and/or maritime motifs; Ashokan stambha coins featuring a central pillar; Gupta dinaras and drachms and others with images of animals, human figures, mythological birds, archery, javelins, battle-axes, wheels and scepters, deities, and portraiture along with floral, geometric, and/or vegetal motifs, including inscriptions in Brahmi script.

c. Medieval Period includes, but is not limited to: Gurjara-Pratihara, Pallava, and other dynastic coins or tokens with portraiture and geometric, animal, and religious motifs; Chola coins with crests of animals and weapons, mythological icons, and inscriptions in the Nagari script; Vijayanagara pagoda coins featuring Hindu deities and related symbols; Delhi Sultanate tankas and jitals with animal, religious, floral, geometric, and/or vegetal motifs and calligraphic inscriptions in various languages and scripts such as Arabic.

d. Mughal Empire or Early Modern Period includes, but is not limited to, rupiya, dam, and mohur coins primarily featuring calligraphy and literary or religious verses, but also figures and portraits of rulers, zodiac signs, birds, animals, and other icons.

(6) Statuary, Ornaments, and other Decorated Objects—Primarily in copper, gold, silver, or alloys such as bronze and brass, but can include a mix of different metals. Includes finials; free-standing and supported statuary; oil lamps; reliefs or incised plaques or roundels; stands; votive ornaments; and other ornaments. Statuary may be fashioned as humans, animals, deities, hybrid, anthropomorphic, and/or mythological figures, and/or architectural or monumental figures, miniature chariots, wheeled carts, or other objects. Statuary may take naturalized or stylized forms, may be seated, standing, dancing, and/or with other figures and symbolic imagery. Includes bases or plinths. Decorative techniques for statuary, ornaments, and other decorated objects include embossing, gilding, engraving, repoussé (relief hammering), and/or inlaying with other materials. Decorative elements may include humans, deities, animals, mythological figures, scenes of activity, floral, geometric, and/or vegetal motifs, and/or inscriptions in various languages and scripts. Imagery includes figures from secular as well as Buddhist, Jain, Hindu, Christian, Sikh, Jewish, Zoroastrian, and Hellenistic (Greek) religious traditions. Approximate Date: 4500 B.C.E.-1770 C.E.

(7) Stamps, Seals, and Tablets—Primarily cast in copper and alloys such as bronze and brass; also includes stamps and seals in gold or silver. Types include, but are not limited to, amulets, flat tablets, rings, small devices with engraving on one side, and others. Stamps and seals may have engravings that include animals, humans, deities, mythological figures; geometric, floral, and vegetal motifs, symbols, and/or inscriptions in various languages and scripts. May be inlaid with other types of material. Approximate Date: 4500 B.C.E.-1770 C.E.

D. Plaster, Stucco, and Unfired Clay

Includes, but is not limited to: bas-relief elements; ceiling decoration; columns; corbels; cornices; emblems; friezes; large- and small-scale figures of animals, humans, and deities; medallions; mihrabs; niches; ornaments; panels; plaques; reliefs; roundels; stupas; tracery; tiles; vaults; window screens; wall decorations; and other architectural and non-architectural decoration or sculpture. May be painted or bear traces of paint or glaze; gilded; inlaid with stones, glass, or other materials; and/or inscribed in various languages and scripts. Stucco usually used for sculpture and panels may depict elaborate scenes of animals and human activity (such as hunting, court life, female scenes) and/or arabesque (intertwining), geometric, floral, and/or vegetal patterns. Stucco panels may have been made with molds. Unfired clay may comprise figural sculpture, such as Buddhas, bodhisattvas, or goddesses. Approximate Date: 4500 B.C.E.-1770 C.E.

E. Paintings

Includes paintings, frescoes, murals and wall paintings, and fragments on natural stones, cave walls, building walls and ceilings, and portable media, such as paper, cloth, canvas, leather, and others.

(1) Paleolithic Era rock paintings are usually in polychrome (black, green, white, and red) media depicting stylized animals, vegetation, simple human figures, and/or geometric designs. In the Mesolithic period, depictions are more detailed, including scenes of hunting, more naturalistic animals and birds, stylized human figures, and communal activities such as dance. Approximate Date: 1.7 million years ago-4500 B.C.E.

(2) Chalcolithic Era polychrome paintings appear on ceramics and rock faces depicting more abstract geometric motifs and ideas in addition to showing tool use, artisanal design, and more ornate organized human activities. May include inscriptions from various scripts and languages. Approximate Date: 4500-1500 B.C.E.

(3) Early Historic and Historic Periods paintings comprise polychrome cave paintings and murals in various styles with landscapes, religious scenes and motifs from Hindu, Buddhist, and Jain traditions (deities, devotees, naturalistic animal and hybrid figures, mythological scenes, and others), secular designs with floral, vegetal, geometric, ornamental, and/or other stylistic motifs and scenes from court life and battles, among others. Includes paintings on cloth and manuscripts and other portable media. May include inscriptions from various scripts and languages. Approximate Date: 1500 B.C.E-550 C.E.

(4) Medieval Period paintings and murals are characterized by polychrome arabesque, floral, vegetal, sculptural, and/or geometric patterns with elaborate religious and secular depictions, as well as paintings of human figures in profile and three-quarter view. Paintings may be highly finished and detailed. May include inscriptions in various scripts and languages. Paintings may also include embedded stones, beetle wings, or gilding. Stylistically influenced by Persian and Indian artistic traditions particular to regional courts and kingdoms. Approximate Date: 550-1526 C.E.

(5) Mughal Empire or Early Modern Period wall and ceiling frescoes contain polychrome arabesque, floral, vegetal, figural, and/or geometric patterns. Human figures mostly in profile view. Paintings may be highly detailed and finished. May include inscriptions in various scripts and languages. Paintings may also include gilding and/or beetle wings. Approximate Date: 1526-1770 C.E.

F. Ivory and Bone

(1) Non-Architectural Elements—Includes decorated and engraved panels and plaques featuring low- and high-relief carvings. May include imagery of humans and human activities, deities, animals, mythological creatures, monuments, and human activity, as well as floral, geometric, architectural, and/or vegetal motifs. May be gilded and/or painted or bear traces of paint or pigment. Includes elements with ivory and/or bone inlay or finishing. Approximate Date: 4500 B.C.E-1770 C.E.

(2) Statuary—Includes depictions of animals, vehicles or implements, humans and human activities, deity or religious figures or architectural elements (e.g., Buddhist, Hindu, and Christian subjects), and mythological creatures. Designs may include geometric, floral, and/or vegetal decorative elements. Includes statuary that is made of ivory and bone or includes ivory and/or bone inlay or finishing. Some statuary may have ivory or bone or wooden bases. Also includes ivory model boats and barges. Approximate Date: 4500 B.C.E.-1770 C.E.

(3) Containers, Tools, Handles, and other Instruments—Includes, but is not limited to: arrowheads; awls; bowls; boxes; buckles; buttons; candleholders; caskets; combs; dagger or sword handles or hilts; embroidery tools; flasks; game dice and other game pieces; gunstocks; hooks; jewelry caskets; manuscript covers; mirrors and mirror handles; mouthpieces; musical instruments; needles; pegs; points; polishers; powder primer flasks; reliquaries; rods; rosewater or perfume sprinklers; rulers; spatulas; spindles; stoppers; styluses and writing implements; trays and platters utensils; and other personal objects made of ivory and bone or includes ivory and/or bone inlay or finishing. May be incised, gilded, and/or painted with decorative motifs, inlaid with other materials, carved in relief, carved in zoomorphic shapes, and/or inscribed in various languages and scripts. Approximate Date: 4500 B.C.E.-1770 C.E.

(4) Furniture and Furniture Elements—Includes objects made entirely from or that contain elements of bone or ivory. Furniture types include, but are not limited to: beds; boxes; brackets; cabinets; chairs; chests; couches; finials; footstools; handles; lamps and lampshades; tables; trunks, and other types of furniture. Furniture elements include, but are not limited to: arms; feet; inlays; legs and throne legs; and panels. Includes objects that have ivory and/or bone inlay or finishing. Approximate Date: 4500 B.C.E.-1770 C.E.

(5) Jewelry and Ornaments—Types include, but are not limited to: bangles; beads; buckles; chains; combs; hairpins; pendants; pins; rings, and other objects made of ivory and bone or include ivory and/or bone inlay or finishing. Includes inlay and works that are gilded, painted, or combined with other materials. Approximate Date: 4500 B.C.E.-1770 C.E.

(6) Stamps and Seals—Bone and ivory seals and stamps include button-shaped, cylindrical, architectural, square, among other shapes. May be engraved with animals, humans, deities, architectural, mythological, geometric, floral, and/or vegetal designs, symbols, and/or inscriptions in various languages and scripts. Approximate Date: 4500 B.C.E.-1770 C.E.

G. Glass

(1) Architectural Elements—Includes mosaics, panes, stained glass, and tiles with various colors and designs, including geometric, floral, mythological, scenic, and/or vegetal motifs on architectural surfaces or in windows. Includes secular and religious imagery. Includes glass inlay used in architectural elements. Glass may be mirrored or stained. Approximate Date: 1500 B.C.E.-1770 C.E.

(2) Beads and Jewelry—Includes beads in the form of animals, cylinders, cones, discs, spheres, and other shapes. Decorations may include bevels, incisions, and/or raised decoration. Glass beads may be used to adorn clothing, jewelry, ornaments, idols, or other figures. Includes glass inlay used in other types of beads, jewelry, and decorated items. Includes stamp seals or gems incised with decorative and/or figural designs. Includes beads with silver-plated caps, enamel, and other materials. Approximate Date: 4500 B.C.E.-1770 C.E.

(3) Vessels—Vessel types include, but are not limited to: conventional shapes such as beakers; bottles; bowls; cups; dishes; flasks; goblets; jars; mugs; perfume bottles; plates; and vases, and other forms such as cosmetic containers; lamps; medicine droppers; reliquaries; and others. Some vessels may be formed in molds, stamped, or using mosaic techniques. May be monochrome or polychrome. Approximate Date: 4500 B.C.E.-1770 C.E.

(4) Ornaments—Includes glass bangles, mirrors, and figurines. May have molded and/or inlaid decorations including, but not limited to, animals, humans, geometric, floral, and vegetal motifs. Approximate Date: 4500 B.C.E.-1770 C.E.

H. Paper, Leather, Birch Bark, and Palm-Leaf

(1) Books and Manuscripts—Includes scrolls, sheets, bound volumes and their bindings, playing cards and other small items, as well as fragments and portions. May be inscribed on materials such as, but not limited to: birch bark; handmade paper, cloth or fabric; palm-leaf; parchment; and vellum. May be gathered into bindings, albums, and folios composed of leather, wood, cloth, paper, and/or paste or pulp board. May use ink, paint, and/or metals (gold and silver). Bindings may be decorated with paint, lacquer, and/or inlay; may be gilded, engraved, tooled, impressed, inscribed, and/or stamped. May have monochrome, bichrome, polychrome, and/or gold handmade decorations, decoupage and stenciled motifs, illustrations, and/or hand-made illuminations, such as decorative borders, margins, frames, medallions, cartouches, frontispieces or headpieces, paintings, panels, or scientific, astronomical, artistic, or mathematical diagrams. Decorative elements include arabesque (intertwining), geometric, floral, mythological, and/or vegetal motifs. Base media may be tinted, marbleized, embellished, and/or flecked with gold or paint. Illustrations and illuminations may depict animals, plants, human figures, hybrids, religious iconography, and portraiture; landscapes and architectural scenes; and/or scenes of human activities, such as court audiences and ceremonies, encounters, hunting, falconry, battles, travel, and historical, religious, mythological, or legendary events or scenes. Includes secular and religious texts. Texts may be written in various scripts, calligraphies, and languages. Scripts include, but are not limited to, Arabic, Bactrian, Brahmi, Devanagari, Gandhari, Gupta (or Gupta Brahmi or Late Brahmi), Gurmukhi, Kadamba, Kharoshti, Landa, Nagari (or Eastern Nagari or Bengali-Assamese), Odia, Pallava (or Pallava Grantha or Grantha), Persian, Sharada (also spelled Sarada), Siddham (or Siddhamatrka), Tamil, Tibetan, Vatteluttu (also spelled Vattezhuthu), as well as any dialectic sub-branches of script. Languages include, but are not limited to, Assamese, Bengali, Chakma, Dogri, Gujarati, Harappan, Hindi, Kannada, Kashmiri, Konkani, Maithili, Malayalam, Meithei/Manipuri, Marathi, Nepali, Newari/Nepal Bhasa, Odia, Pali, Prakrit, Punjabi, Sanskrit, Tamil, Telugu, and Urdu. Topics include, but are not limited to, astronomy, astrology, biography, botany, civic matters, court proceedings, edicts, genealogy, history, law and legislation, letters and other correspondence, literature, mathematics, medicine, memoir, musical or artistic works or treatises, natural and hard sciences, philosophy, poetry, records of any kind, religious scriptures and epics, theology, trade, and travel. Approximate Date: 1500 B.C.E.-1770 C.E.

(2) Items of Personal Adornment—Primarily in leather, including arm bands, bracelets, earrings, necklaces, and other types of jewelry; belts; headpieces; sandals; sheaths; shoes; vests; and other types of clothing. May be embroidered, stamped, or embellished with other materials. Leather goods may also be used in conjunction with other textiles. Approximate Date: 1500 B.C.E.-1770 C.E.

(3) Weapons and armor—Primarily in leather, including: armor; bow cases; quivers; saddles; sheaths; and ornaments for humans and cavalry animals, such as horses, camels, and elephants.

I. Textiles

Includes cotton, silk, flax, wool, linen, hemp, and other woven materials used in, but not limited to: artistic or theatrical costumes; basketry and other household goods; burial shrouds; carpets; clothing, shawls, hats, shoes, jewelry, and items of personal adornment; decorative hangings, covers, or carpets; sheaths; tent coverings, tent hangings, blankets, covers, and other domestic textiles; textiles specific to religious rituals or practice; textiles intended to decorate cattle; and others. Textile patterns may be undecorated, decorated, or may be woven into the body of the textile. Textiles may be dyed, stamped, painted, quilted, and/or embroidered, including embroidery with metal (gold and/or silver) threads or ribbons, mirrors, gems, or others. Decorative elements may include stylized or naturalistic animal, geometric, vegetal, floral, human, and/or mythological motifs as well as inscriptions in various languages and scripts. Approximate Date: 4500 B.C.E.-1770 C.E.

J. Wood, Shell, and Other Organic Material

(1) Architectural Elements—Wooden elements primarily in teak, walnut, blackwood, rosewood, sandalwood, mahogany, ebony, mango, jackfruit, and neem, but includes other types of wood. Category includes, but is not limited to: arches; balconies; balustrades; bases; beams; benches; brackets; columns; dentils; doors and door frames; eaves; finials; floors and floor boards; friezes; gables; gates; latches; lamps; lintels; jambs; mihrabs; minbars; ornamental freestanding archways or gateways; palisades; panels; partitions; posts; rafters; roofs and related elements; screens and lattices; shutters; stilts; swings; window frames and fittings; or pieces of architectural objects. Architectural elements may be plain, painted, carved, incised, inlaid, lacquered, and/or inscribed in various languages and scripts. May include relief carvings and/or inlay. Decorative elements may include depictions or motifs from secular as well as religious traditions, including animals, human figures, hybrids, mythological forms, vegetation, and stylized and/or geometric designs. Approximate Date: 1500 B.C.E.-1770 C.E.

(2) Non-Architectural Elements—Wooden elements primarily in sandalwood, walnut, rosewood, teak, blackwood, mahogany, but includes other types of wood. Category includes, but is not limited to: animal husbandry and agricultural objects such as ploughs, scythes, yokes, and others; bookstands; boxes; chests; coffins; figurines and statues; finials; furniture; jewelry and other items of personal adornment; lamps; musical instruments; stamps and seals with engraved designs and/or inscriptions in various languages and scripts; toys and game pieces; vessels and containers; weapons, such as arrows, bows, clubs, harpoons, hilts and sheaths, shields, spears; and others objects. May include relief carvings and/or inlay. Jewelry and ornaments made of shell, mother-of-pearl, pearl, resin, seeds, shells, tusks, and other organic material, may include, but are not limited to: anklets; arm bands; bangles; beads; bracelets; cones; earrings; headpieces and hair ornaments; inlays; necklaces; pendants; rings; studs; and other types. Vessels made of shell or set with mother-of-pearl panels may include, but are not limited to: bowls; ewers; ladles; libation vessels; plates; trays; utensils; and others. Decorative elements may include depictions or motifs from secular as well as religious traditions, including animals, human figures, hybrids, mythological forms, vegetation, and stylized and/or geometric designs. Non-architectural elements may be plain, painted, carved, incised, inlaid, lacquered, and/or inscribed in various languages and scripts. Approximate Date: 1500 B.C.E.-1770 C.E.

(3) Statuary and figurines—Can be of wood, ivory, shell, tusk, mother-of-pearl, pearl, and other organic materials. Examples may include stylized and/or naturalistic depictions of human, animal, hybrid, mythological, abstract, and/or vegetal motifs from secular as well as Hindu, Buddhist, Jain, Sikh, Christian, Jewish, and Zoroastrian religious traditions. Statuary may be polished, painted, inlaid, gilded, incised, and/or lacquered. Approximate Date: 1500 B.C.E.-1770 C.E.

K. Human Remains

Includes human remains, fragments of human remains, and fragments of hominin remains. Includes skeletal remains, soft tissue, and ash from the human body that may be preserved in burials, reliquaries, and other contexts. Approximate Date: 1.7 million years ago-1770 C.E.

II. Ethnological Material

Ethnological material in the Designated List includes civic, religious, and royal architectural materials, religious material and ceremonial items, and manuscripts ranging in date from 2nd century B.C.E. to 1947 C.E.

A. Architectural Materials

Architectural materials include non-industrial and/or handmade elements of civic, religious, and royal architecture, such as material from forts, mausoleums, and palaces. They may be made of stone, ceramic or terracotta, plaster and stucco, glass, and/or wood, and painted media. Approximate Date: 2nd century B.C.E.-1924 C.E.

(1) Stone—Primarily in sandstone, limestone, marble, granite, basalt, slate, schist, quartzite, and khondalite, but includes other types of stone. Includes altars; arches; balustrades; benches; brackets; bricks and blocks from walls, ceilings, and floors; columns, including capitals and bases; corbels; cornices; dentils; disks, including amalakas and chattras; domes; door frames, portals, and jambs; false gables; finials and spires; fountains and fountainheads; friezes; gates and freestanding archways; lintels; merlons; mihrabs; minarets; mosaics; niches; panels; pavilions, including semi-open domed pavilions (chatris/chhatris); pilasters; pillars, including capitals and bases; plinths; portable shrines; railings; reliefs; ringstones; stupas; tiles; tombstones; vaults; window screens and lattices (jalis); and others. May be plain, carved in relief, incised, inlaid, or inscribed in various languages and scripts. May be painted, polished, and/or gilded. May include relief sculptures, mosaics, and inlays that were part of civic, religious, and/or royal architecture, such as friezes, panels, or figures in the round. Imagery may be civic or religious. Mosaic and architectural designs include depictions of animal, human, religious, floral, vegetal, geometric, mythological, and/or calligraphic motifs.

(2) Ceramic and Fired Clay—Includes terracotta (fired clay) arches; brackets; bricks; columns, including capitals and bases; niches; panels; pipes; reliefs; shrines; tiles; window screens and lattices (jalis), and others used as decorative elements in civic, religious, and royal architecture. Bricks may be cut or molded to form decorative patterns on building exteriors. Mosaic designs include animal, human, religious, calligraphic, and geometric, floral, and/or vegetal motifs. Panels and tiles may be painted, plastered, stuccoed, or have traces of paint or plaster. Tiles may be square, polygonal, or specifically shaped, and may be carved, incised, impressed, or molded with decorations in the form of animal, human, religious, geometric, arabesque (intertwining), floral, and/or vegetal motifs, and/or calligraphic writing in various scripts and languages, and/or then glazed. Glaze may be clear, monochrome, and/or polychrome.

(3) Plaster and Stucco—Includes ceiling decoration; columns; corbels; cornices; friezes; large- and small-scale figures of animals, humans, and deities; mihrabs; niches; ornaments; panels; plaques; reliefs; roundels; shrines; small-scale architectural elements; stupas; tracery; vaults; window screens; and other types. May be painted or bear traces of paint; glazed; gilded; inlaid with stones or other materials; and/or inscribed in various languages and scripts. Designs may include arabesque (intertwining), geometric, floral, and/or vegetal patterns. May have been made using molds.

(4) Paintings and Frescoes—Includes paintings, murals, frescoes on civic, religious, and royal building walls and ceilings, and fragments thereof. Frescoes with polychrome arabesque (intertwining), floral, vegetal, sculptural, geometric and/or calligraphic patterns and inscriptions are typical of the Historic Period through the Mughal Period. Jain and Hindu temples, Mughal palaces, and Sikh gurdwaras are sometimes adorned with frescoes depicting human and animal figures and scenes, as well as floral, vegetal, religious, and geometric motifs. Approximate Date: 2nd century B.C.E.-1947 C.E.

(5) Glass—Includes glass panes, stained glass, and pieces or tiles arranged in mosaic fashion to create geometric, floral, religious, and/or vegetal designs on architectural surfaces or in windows. Glass may be mirrored or stained. Includes glass inlay.

(6) Wood—Includes hand-carved altars; arches; balconies; balustrades; bases; beams; benches; brackets; columns, including capitals and bases; dentils; doors and door frames; eaves; friezes; gables; gates; latches; lamps; lintels; jambs; mihrabs; minbars; ornamental freestanding archways or gateways; palisades; panels; partitions; posts; roofs and related elements; screens and lattices; shrines; shutters; stupas; swings; window frames and fittings; or parts thereof, used as structural elements in and/or to decorate civic, religious, and royal architecture. These architectural elements may have been reused for new purposes, such as a wood panel used as a table, or a door jamb used as a bench. May be painted, carved, incised, inlaid, lacquered, and/or inscribed in various languages and scripts. Includes relief carvings and/or inlay.

B. Religious and Ceremonial Items

Includes non-industrial and/or handmade moveable objects typically associated with use in religious and ceremonial settings, such as temples, mosques, communal shrines, monasteries, synagogues, gurdwaras, churches, funerary areas and cemeteries. Includes, but is not limited to, objects from Hindu, Buddhist, Jain, Sikh, Christian, Jewish, and Zoroastrian religious traditions. Primarily in stone, metal, ceramic or clay, glass, wood, bone, ivory, textiles, leather, and other organic materials. Approximate Date: 7th century B.C.E.-1924 C.E.

(1) Furniture, Sculpture, and Ceremonial Objects—Includes non-architectural objects used in communal religious and ceremonial settings. Examples include decorated Quran stands in mosques; Jain altarpieces; sculpture from Hindu temple fragments or idols used in regular or special religious ceremonies. Primarily in stone (especially limestone, marble, sandstone, basalt, and others), metal (especially copper, bronze, and brass), wood, bone, and ivory. Types include, but are not limited to: altars; baldachins; basins; bells (freestanding and affixed); biers; bookstands; candelabras; canopies; chandeliers; funerary headstones and monuments; grills; lecterns; libation platforms; palanquins and processional chariots; mihrabs; minbars; pillars; plaques; portable shrines; screens; statues and idols; and stelae. May be polished, gilded, carved in relief, painted, incised, inlaid, or inscribed in various languages and scripts. Decorative elements may include floral, geometric, vegetal, and/or arabesque (intertwining) motifs, as well as animal, mythological, divine, architectural, and/or human figures in various poses.

(2) Vessels and Containers—Includes vessels and containers of particular significance used in communal religious and ceremonial settings in stone, metal (especially silver, iron, copper, bronze, steel, brass, and other alloys), ceramic, glass, wood, bone, ivory, leather, lacquer papier-mâché, and other materials. Types include, but are not limited to: boxes; bowls; caskets, urns, and coffins (and their contents); ceremonial trays or plates; ritual flasks and jars; incense burners and braziers; prayer lamps; reliquaries (and their contents); and scroll, book, or manuscript containers. May be polished, gilded, painted, incised, inlaid, covered in cloth or other materials, or inscribed in various languages and scripts. Decorative elements may include floral, geometric, vegetal, and/or arabesque (intertwining) motifs, as well as animal, mythological, divine, architectural, and/or human figures in various poses.

(3) Textiles—Includes textiles used for religious and ceremonial purposes, primarily in cotton, silk, flax, wool, linen, hemp, animal hair. Types include, but are not limited to: banners; covers for notable sacred texts; parasols; sacred garments for religious idols or icons; shrine covers; and shrouds and casket covers. May be dyed, stamped, painted, quilted, and/or embroidered, including embroidery with metal (gold and/or silver) threads or ribbons, mirrors, gems, or others. Decorative elements may include floral, geometric, vegetal, and/or arabesque (intertwining) motifs, as well as animal, mythological, divine, architectural, and/or human figures in various poses. May be inscribed in various languages and scripts.

(4) Ornaments—Includes ornaments used in specific communal religious or ceremonial functions or settings. Primarily in metal, wood, ceramic, leather, bone, ivory, glass, and other organic material. Types include, but are not limited to: amulets; conches and antelope horns; crowns; daggers and blades; hair pieces and ornaments; headgear, headpieces, and assorted regalia; jewelry such as arm bands, necklaces, pendants, rings, earrings, bracelets, and bangles for decorating religious figures or icons; masks for ceremonial or ritual use; paintings and effigies; prayer beads. May be polished, gilded, carved, painted, incised, inlaid, or inscribed in various languages and scripts. Decorative elements may include floral, geometric, vegetal, and/or arabesque (intertwining) motifs, as well as animal, mythological, divine, architectural, and/or human figures in various poses.

(5) Musical Instruments—Includes musical instruments used in specific communal religious or ceremonial functions or settings. Primarily in wood, metal, leather, ceramic, bone, and other organic material. Types include, but are not limited to: brass; conches; gongs; harmoniums; percussive; strings; and winds. May be polished, gilded, carved, painted, incised, inlaid, or inscribed in various languages and scripts. Decorative elements may include floral, geometric, vegetal, and/or arabesque (intertwining) motifs, as well as animal, mythological, divine, architectural, and/or human figures in various poses.

(6) Modified Human Remains—Includes skeletal remains and soft tissue that may be combined with other material and/or non-human remains. Well known examples include Naga tribal trophy skulls, which consist of a composite of human skulls and animal horns or antlers bound together with leather, rope, or palm fibers and may include other decorative elements, such as feathers and snakeskin.

C. Manuscripts

Includes non-industrial and/or handmade, handwritten, hand-illustrated, and illuminated scrolls, sheets, and bound volumes important to the cultural heritage of a community, people, belief system, or literary or artistic tradition. Examples include original royal court or government documents, original folios or treatises or musical scores, including illustrations that may be unbound (not to be confused with miniature paintings), first editions of books, and sacred texts of particular historical significance. May be made from various media, such as paper, palm-leaf, parchment, vellum, birchbark, cotton, or cloth. May be bound in leather, hide, cloth, or wood. Texts may be written in various languages and scripts, such as Arabic, Assamese, Bengali, Chakma, Devanagari, Dogri, Gandhari, Gujarati, Hindi, Kannada, Kharoshti, Kashmiri, Konkani, Maithili, Malayalam, Meithei/Manipuri, Marathi, Nepali, Newari/Nepal Bhasa, Odia, Pali, Prakrit, Punjabi, Sanskrit, Sharada (also spelled Sarada), Tamil, Telugu, Tibetan, and Urdu. May include sacred texts from Hinduism, Islam, Jainism, Buddhism, Sikhism, Christianity, Judaism, and Zoroastrianism. Other topics include, but are not limited to, art, astrology, astronomy, ayurveda, botany, games, history, linguistics, literature, mathematics, medicine, music, poetry, religion, sciences, and/or theology. May be embellished or decorated with monochrome, bichrome, or polychrome handmade illustrations and/or illuminations. These may include arabesque (intertwining), geometric, floral, or vegetal motifs; images of animals, plants, deities, and humans, including portraiture; landscapes; and/or scenes of human activities, such as courtly gatherings and ceremonies, hunting, falconry, battles, and historical, mythological, or legendary events. Approximate Date: 7th century B.C.E.-1947 C.E.

Inapplicability of Notice and Delayed Effective Date

This amendment involves a foreign affairs function of the United States and is, therefore, being made without notice or public procedure under 5 U.S.C. 553(a)(1). For the same reason, a delayed effective date is not required under 5 U.S.C. 553(d)(3).

Executive Order 12866

Executive Order 12866 (Regulatory Planning and Review) directs agencies to assess the costs and benefits of available regulatory alternatives and, if regulation is necessary, to select regulatory approaches that maximize net benefits (including potential economic, environmental, public health and safety effects, distributive impacts, and equity). CBP has determined that this document is not a regulation or rule subject to the provisions of Executive Order 12866 because it pertains to a foreign affairs function of the United States, as described above, and therefore is specifically exempted by section 3(d)(2) of Executive Order 12866.

Regulatory Flexibility Act

The Regulatory Flexibility Act (5 U.S.C. 601 et seq.), as amended by the Small Business Regulatory Enforcement Fairness Act of 1996, requires an agency to prepare and make available to the public a regulatory flexibility analysis that describes the effect of a proposed rule on small entities (i.e., small businesses, small organizations, and small governmental jurisdictions) when the agency is required to publish a general notice of proposed rulemaking for a rule. Since a general notice of proposed rulemaking is not necessary for this rule, CBP is not required to prepare a regulatory flexibility analysis for this rule.

Signing Authority

In accordance with Treasury Order 100-20, the Secretary of the Treasury delegated to the Secretary of Homeland Security the authority related to the customs revenue functions vested in the Secretary of the Treasury as set forth in 6 U.S.C. 212 and 215, subject to certain exceptions. This regulation is being issued in accordance with DHS Directive 07010.3, Revision 03.2, which delegates to the Commissioner of CBP the authority to prescribe and sign regulations related to cultural property import restrictions.

Rodney S. Scott, Commissioner, having reviewed and approved this document, has delegated the authority to electronically sign this document to the Director (or Acting Director, if applicable) of the Regulations and Disclosure Law Division of CBP, for purposes of publication in the Federal Register.

List of Subjects in 19 CFR Part 12

Cultural property, Customs duties and inspection, Imports, Prohibited merchandise, and Reporting and recordkeeping requirements.

Amendment to the CBP Regulations

For the reasons set forth above, part 12 of title 19 of the Code of Federal Regulations (19 CFR part 12), is amended as set forth below:

PART 12—SPECIAL CLASSES OF MERCHANDISE

1. The general authority citation for part 12 and the specific authority citation for § 12.104g continue to read as follows:

Authority: 5 U.S.C. 301; 19 U.S.C. 66, 1202 (General Note 3(i), Harmonized Tariff Schedule of the United States (HTSUS)), 1624.

* * * * *

Sections 12.104 through 12.104i also issued under 19 U.S.C. 2612;

* * * * *

2. In § 12.104g, amend the table in paragraph (a) by adding, in alphabetical order, an entry for India to read as follows:

§ 12.104g Specific items or categories designated by agreements or emergency actions.

(a) * * *

State party | Cultural property | Decision No.
* * * * * * *
India | Archaeological material of India ranging in date from approximately 1.7 million years ago to 1770 C.E., and ethnological material of India ranging in date from approximately the 2nd century B.C.E. to 1947 C.E | CBP 25-09
* * * * * * *

* * * * *

Robert F. Altneu,
Director, Regulations and Disclosure Law Division, Regulations and Rulings, Office of Trade, U.S. Customs and Border Protection.

[FR Doc. 2025-14114 Filed 7-25-25; 8:45 am]

BILLING CODE 9111-14-P